DEPARTMENT OF TRANSPORTATION

Federal Aviation Administration

Agency Information Collection Activities: Requests for Comments; Clearance of Renewed Approval of Information Collection: Representatives of the Administrator

AGENCY: Federal Aviation Administration (FAA), DOT.

ACTION: Notice and request for comments.

SUMMARY: In accordance with the Paperwork Reduction Act of 1995, FAA invites public comments about our intention to request the Office of Management and Budget (OMB) approval to renew a previously approved information collection. The collection of information is for the purpose of obtaining essential information concerning the applicant's professional and personal qualifications. The FAA uses the information provided to screen and select designees who act as representatives of the FAA Administrator in performing various certification and examination functions described in the Federal Aviation Act.

DATES: Written comments should be submitted by May 15, 2017.

ADDRESSES: Send comments to the FAA at the following address: Ronda Thompson, Room 441, Federal Aviation Administration, ASP-110, 950 L'Enfant Plaza SW., Washington, DC 20024.

FOR FURTHER INFORMATION CONTACT: Ronda Thompson by email at: Ronda.Thompson@faa.gov.

SUPPLEMENTARY INFORMATION: Public Comments Invited: You are asked to comment on any aspect of this information collection, including: (a) Whether the proposed collection of information is necessary for FAA's performance; (b) The accuracy of the estimated burden; (c) Ways for FAA to enhance the quality, utility and clarity of the information collection; and (d) Ways that the burden could be minimized without reducing the quality of the collected information. The agency will summarize and/or include your comments in the request for OMB's clearance of this information collection.

OMB Control Number: 2120-0033.

Title: Representatives of the Administrator.

Form Numbers: FAA Forms 8110-14, 8110-28, 8520-2, 8710-6, 8710-10.

Type of Review: Renewal of an information collection.

Background: Title 49, United States Code, Section 44702 authorizes the appointment of appropriately qualified persons to be representatives of the Administrator to allow those persons to examine, test and certify other persons for the purpose of issuing them pilot and instructor certificates. The collection of information is for the purpose of obtaining essential information concerning the applicant's professional and personal qualifications. The FAA uses the information provided to screen and select designees who act as representatives of the FAA Administrator in performing various certification and examination functions under Title VI of Federal Aviation Act.

Respondents: Approximately 4,515 applicants.

Frequency: Information is collected on occasion.

Estimated Average Burden per Response: 1.5 hours.

Estimated Total Annual Burden: 6,623 hours.

Issued in Washington, DC, on February 1, 2017.
Ronda L. Thompson,
FAA Information Collection Clearance Officer, Performance, Policy, and Records Management Branch, ASP-110.

[FR Doc. 2017-05017 Filed 3-13-17; 8:45 am]

BILLING CODE 4910-13-P